DEPARTMENT OF TRANSPORTATION

Coast Guard

33 CFR Part 165

[CGD01-00-130]

RIN 2115-AA97

Safety Zone: USS John F. Kennedy, Boston Harbor, Boston, MA

AGENCY: Coast Guard, DOT.

ACTION: Temporary final rule.

SUMMARY: The Coast Guard is establishing temporary moving safety zones around the aircraft carrier USS John F. Kennedy as it transits Boston Harbor on July 10, and 17, 2000. The safety zones will be in effect Monday, July 10, 2000 from 5 a.m. to 8 a.m. Eastern Daylight Time (EDT) as the vessel transits inbound from the “NC” buoy to the North Jetty and Monday, July 17, 2000 from 12 noon to 2 p.m. on July 17, 2000 from North Jetty to the “NC” buoy as the vessel departs the Port of Boston. The safety zones are needed to protect persons, facilities, vessels and others in the maritime community from the safety hazards associated with the ship's limited maneuverability.

DATES: This rule is effective from 6 a.m. on Monday, July 10, 2000 until 2 p.m. on Monday, July 17, 2000.

ADDRESSES: Comments and material received from the public, as well as documents indicated in this preamble as being available in the docket, are part of docket CGD01-00-130 and are available for inspection or copying at U.S. Coast Guard Marine Safety Office Boston, 455 Commercial Street, Boston, MA 02109 between 8 a.m. and 3 p.m., Monday through Friday, except Federal holidays.

FOR FURTHER INFORMATION CONTACT: Lieutenant Brian Downey, Marine Safety Office Boston, 617-223-3000.

SUPPLEMENTARY INFORMATION:

Regulatory Information

As authorized by 5 U.S.C. 553(b)(B), a notice of proposed rulemaking (NPRM) was not published for this regulation. Under 5 U.S.C. 553(b)(B), the Coast Guard finds that good cause exists for not publishing a NPRM and for making this regulation effective in less than 30 days after publication in the Federal Register. Due to the complex planning and coordination involved with naval scheduling, final details for the temporary closure were not provided to the Coast Guard in time to draft and publish a NPRM or a final rule 30 days in advance of its effective date. Any delay in implementing this rule would be contrary to the public interest since immediate action is necessary to temporarily close a portion of Boston Harbor waterway and protect the maritime public from the hazards associated with the limited maneuverability of an aircraft carrier.

Background and Purpose

This regulation establishes two moving safety zones extending 300 yards in all directions from the aircraft carrier USS John F. Kennedy. The first safety zone will be enforced during the ship's transit from the Boston Harbor Entrance lighted whistle buoy “NC” (LLNR 10680) en route to North Jetty on July 10, 2000 from 6 a.m. to 8 a.m. or until the ship is safely moored. The second safety zone will be enforced on July 17, 2000 from 12 noon to 2 p.m. during the ship's outbound transit from North Jetty to the Boston Harbor Entrance lighted whistle buoy “NC” (LLNR 10680).

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT)(44 FR 11040, February 26, 1979).

The Coast Guard expects the economic impact of this rule to be so minimal that a full regulatory evaluation under paragraph 10e of the regulatory policies and procedures of DOT is unnecessary. The safety zone temporarily closes portions of North Channel, President Roads, and Boston Inner Harbor. Due to the limited duration of the event, and the Coast Guard's advance marine advisories, the safety zone will minimally affect vessel traffic.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. “Small entities” may include (1) small businesses and not-for-profit organizations that are independently owned and operated and are not dominant in their fields and (2) governmental jurisdictions with populations of less than 50,000. This rule will affect the following entities, some of which may be small entities: the owners and operators of vessels intending to transit or anchor in a portion of Boston Harbor during the periods the safety zones will be enforced. These safety zones will not have a significant economic impact on a substantial number of small entities because traffic may be permitted to pass through the zone with the permission of the Captain of the Port (COTP). Additionally, since the safety zone will be moving with the USS John F. Kennedy, no single portion of the harbor will be closed for an extended time as the safety zone passes. Traffic in the affected channels may still be able transit in the harbor provided they remain outside the safety zone. The Coast Guard will issue maritime advisories widely available to users of Boston Harbor and the affected channels before and during the effective period.

Assistance for Small Entities

Under section 213(a) of the Small Business Regulatory Enforcement Fairness Act of 1996 (Pub. L. 104-121), the Coast Guard offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that under figure 2-1, paragraph (34)(g), of Commandant Instruction M16475.lC, this rule is categorically excluded from further environmental documentation. A “Categorical Exclusion Determination” is available in the docket for inspection or copying where indicated under ADDRESSES.

List of Subjects in 33 CFR Part 165

Harbors, Marine safety, Navigation (water), Reporting and recordkeeping requirements, Security measures, Waterways.

For the reasons discussed in the preamble, the Coast Guard amends 33 CFR part 165 follows:

PART 165—REGULATED NAVIATION AREAS AND LIMITED ACCESS AREAS

1. The authority citation for part 165 continues to read as follows:

Authority: 33 U.S.C. 1231; 50 U.S.C. 191; 33 CFR 1.05-1(g), 6.04-1, 6.04-6, 160.5; 49 CFR 1.46.

2. Add temporary section 165.T01-138 to read as follows:

§ 165.T01-038 Safety Zones: USS John F. Kennedy, Boston Harbor, Massachusetts

(a) Safety Zones:

(1) USS John F. Kennedy inbound transit:

(i) Location. The following area is a safety zone: All waters extending three hundred (300) yards in any direction from the inbound aircraft carrier USS John F. Kennedy during its transit from the Boston Harbor Entrance Lighted Whistle Buoy “NC” to its berth at North Jetty, Boston Harbor, MA.

(ii) Enforcement Period. This section is enforced from 6 a.m. until 8 a.m. on Monday, July 10, 2000.

(2) USS John F. Kennedy outbound transit:

(i) The following area is a safety zone: All waters extending three hundred (300) yards in any direction from the outbound aircraft carrier USS John F. Kennedy during its transit from its berth at North Jetty, Boston Harbor, to Boston Harbor Entrance Lighted Whistle Buoy “NC”.

(ii) Enforcement Period. This section is enforced from 12 noon until 2 p.m. on Monday, July 17, 2000.

(b) Regulations.

(1) In accordance with the general regulations in section 165.23 of this part, entry into or movement within this zone is prohibited unless authorized by the Captain of the Port (COTP) Boston.

(2) All persons and vessel operators shall comply with the instructions of the COTP or the designated on-scene U.S. Coast Guard patrol personnel. U.S. Coast Guard patrol personnel include commissioned, warrant, and petty officers of the U.S. Coast Guard.

(3) The general regulations covering safety zones in section 165.23 of this part apply.

(c) Effective date: This section is effective from 6 a.m. on July 10, 2000 until 2 p.m. July 17, 2000.

Dated: June 27, 2000.
J.R. Whitehead,
Captain, U.S. Coast Guard, Captain of the Port, Boston, Massachusetts.

[FR Doc. 00-17337 Filed 7-5-00; 3:21 pm]

BILLING CODE 4910-15-P